DEPARTMENT OF THE INTERIOR

Fish and Wildlife Service

Endangered and Threatened Wildlife and Plants; Permits

AGENCY: Fish and Wildlife Service, Interior.

ACTION: Notice of Issuance of Enhancement of Survival and Incidental Take Permits.

SUMMARY: Between June 1, 2005, and September 30, 2007, the Pacific Region of the Fish and Wildlife Service (Service) issued 18 permits for enhancement of survival or incidental take of threatened and endangered species. These permits were issued pursuant to sections 10(a)(1)(A) and 10(a)(1)(B) of the Endangered Species Act of 1973, as amended (Act). Copies of the permits and associated decision documents are available upon request.

ADDRESSES: Documents are available from the U.S. Fish and Wildlife Service, 911 NE., 11th Avenue, Portland, Oregon 97232; facsimile (503) 231-6243. Charges for copying, shipping and handling may apply.

FOR FURTHER INFORMATION CONTACT: Please contact Shelly Sizemore, Administrative Assistant, at the above address and facsimile number or by telephone at (503) 231-2194.

SUPPLEMENTARY INFORMATION: Section 9 of the Act (16 U.S.C. 1531 et seq.) and its implementing regulations prohibit the take of wildlife species listed as endangered or threatened. The term “take” means to harass, harm, pursue, hunt, shoot, wound, kill, trap, capture, or collect listed wildlife, or to attempt to engage in any such conduct. We may, under limited circumstances, issue permits to authorize take that is incidental to, and not the purpose of, carrying out an otherwise lawful activity. Regulations governing permits for threatened and endangered species are found at 50 CFR 17.32 and 17.22.

Although not required by law or regulation, it is our regional policy to notify the public of permits issued for enhancement of survival or incidental take under Habitat Conservation Plans, Safe Harbor Agreements, or Candidate Conservation Agreements with Assurances. Within the Pacific Region of the Service, between June 1, 2005, and September 30, 2007, we issued 15 permits for enhancement of survival and 3 permits for incidental take of threatened and endangered species subject to certain conditions set forth therein, pursuant to sections 10(a)(1)(A) and 10(a)(1)(B) of the Act. The enhancement of survival permits are associated with Safe Harbor Agreements or Candidate Conservation Agreements with Assurances. The incidental take permits are associated with Habitat Conservation Plans. We issued each permit after determining that: (1) The permit application was submitted in good faith; (2) all permit issuance criteria were met, including the requirement that granting the permit will not jeopardize the continued existence of listed species; and (3) the permit was consistent with the purposes and policy set forth in the Act and applicable regulations, including a thorough review of the environmental effects of the action and alternatives pursuant to the National Environmental Policy Act of 1969 (42 U.S.C. 4321 et seq.).

Habitat Conservation Plans (HCP)
Permit No. | Applicant | Receipt of application Federal Register notice | Permit issuance date | Name of approved plan or agreement
TE118901-0 | Kaheawa Wind Power, LLC | 70 FR 57888; October 4, 2005 | January 30, 2006 | HCP for the Kaheawa Wind Generation Facility, Ukumehame, Maui, HI.
TE121202-0 | Washington Department of Natural Resources | 70 FR 7245; February 11, 2005 | May 26, 2006 | Washington Department of Natural Resources Forest Practices HCP.
TE133608-0 | Duane and Darlene Schwisow | 71 FR 61501; October 18, 2006 | April 10, 2007 | HCP for the Schwisow Development in Adams County, ID.

Safe Harbor Agreements (SHA)
Permit No. | Applicant | Receipt of application Federal Register notice | Permit issuance date | Name of approved plan or agreement
TE106219-0 | Chevron | 69 FR 52027; August 24, 2004 | September 23, 2005 | SHA with Chevron Hawaii Refinery at James Campbell Industrial Park for management of the Hawaiian stilt and Hawaiian coot, Oahu, HI.
TE134317-0 | Peter Lancaster | 71 FR 52816; September 7, 2006 | March 9, 2007 | Columbia Basin pygmy rabbit template SHA.
TE134335-0 | Billingsley Ranch | ......do | ......do | Do.
TE144773-0 | Eric E. Long | 72 FR 20557; April 25, 2007 | August 8, 2007 | Do.
TE146604-0 | Sagebrush Flats Farm | ......do | ......do | Do.
TE146607-0 | ABS Farms LLC | ......do | ......do | Do.
TE146612-0 | Raymond J. Mayer | ......do | ......do | Do.
TE146616-0 | Rimrock Meadows Assoc | ......do | ......do | Do.
TE150086-0 | Evans Bothers Inc | ......do | ......do | Do.
TE154037-0 | The Nature Conservancy (TNC) | 71 FR 65830; November 9, 2006 | June 18, 2007 | Oregon silverspot butterfly central coast programmatic SHA with TNC.
TE162242-0 | Big Island Resource Conservation and Development Council | 71 FR 78452; December 29, 2006 | September 12, 2007 | Programmatic SHA covering Hawaiian goose, Hawaiian duck, Hawaiian moorhen, Hawaiian coot, and Hawaiian stilt for participants of USDA Farm Bill Conservation Programs.
TE162243-0 | Oahu Resource Conservation and Development Council | ......do | ......do | Do.
TE162244-0 | Tri-Isle Resource Conservation and Development Council | ......do | ......do | Do.
TE162245-0 | Garden Island Resource Conservation and Development Council | ......do | ......do | Do.
Symbol used in the three right columns: “......do...”—(ditto) indicates the entry is the same as the column entry directly above.

Candidate Conservation Agreements with Assurances (CCAA)
Permit No. | Applicant | Receipt of application Federal Register notice | Permit issuance date | Name of approved plan or agreement
TE109603-0 | State of Idaho Department of Lands | 71 FR 5358; February 1, 2006 | September 29, 2006 | CCAA for the Columbia spotted frog at Sam Noble Springs, Owyhee County, ID.

Copies of each permit, the accompanying Habitat Conservation Plan, Safe Harbor Agreement, or Candidate Conservation Agreement with Assurances, and associated documents are available upon request. Decision documents for each permit include a Finding and Recommendation; a Biological Opinion; and either a Record of Decision, Finding of No Significant Impact, or an Environmental Action Statement. Associated documents may also include an Implementing Agreement, Environmental Impact Statement, or Environmental Assessment, as applicable.

Dated: November 14, 2007.
David J. Wesley,
Deputy Regional Director, Portland, Oregon.

[FR Doc. E7-24148 Filed 12-12-07; 8:45 am]

BILLING CODE 4310-55-P